ENVIRONMENTAL PROTECTION AGENCY

[FRL-7490-8]

Science Advisory Board; Air Toxics Research Strategy/Multi-Year Research Plan (MYP) Review Panel Request for Nominations for Expertise

AGENCY: Environmental Protection Agency (EPA).

ACTION: Notice.

SUMMARY: The Environmental Protection Agency Science Advisory Board (SAB) announces the formation of a new “Air Toxics Research Strategy/Multi-Year Plan (ATRS/MYP) Review Panel” and is seeking nominations for members of the panel.

DATES: Nominations should be submitted by May 21, 2003. The consultation by the panel is planned for the summer of 2003 (tentatively mid-July) the meeting will be held in Research Triangle Park, NC.

ADDRESSES: Nominations should be submitted in electronic format through the Form for Nominating Individuals to Panels of the EPA Science Advisory Board provided on the SAB Web site. The form can be accessed through a link on the blue navigational bar on the SAB Web site, http://www.epa.gov/sab. To be considered, all nominations must include the information required on that form. Anyone who is unable to submit nominations via this form may contact Dr. James Rowe, Designated Federal Officer, (DFO) as indicated below.

FOR FURTHER INFORMATION CONTACT: Any member of the public wishing further information regarding this Request for Nomination may contact Dr. James Rowe, Designated Federal Officer, by telephone/voice mail at (202) 564-6488, by fax at (202) 501-0323; or via e-mail at rowe.james@epa.gov. General information about the SAB may be found in the SAB Web site at http://www.epa.gov/sab.

SUPPLEMENTARY INFORMATION: 1. Summary: The U.S. Environmental Protection Agency (EPA or Agency) Science Advisory Board is requesting nominations of expertise for a review panel to comment on the EPA ATRS/MYP developed by the Office of Research and Development (ORD) which addresses the scope and magnitude of air toxics.

This Panel is being formed to provide advice to the Agency as part of the EPA SAB mission, established by 42 U.S.C. 4365, to provide independent scientific and technical advice, consultation, and recommendations to the EPA Administrator on the technical bases for EPA positions and regulations.

This project is intended as a review of the ATRS/MYP; the background for the effort and the charge to the Panel is described below. The Board is a chartered Federal Advisory Committee, which reports directly to the Administrator.

Members of the Panel will provide advice to the Agency, through the SAB's Executive Committee. The Panel will comply with the provisions of FACA and all appropriate procedural policies, including the SAB process for panel formation described in the EPA Science Advisory Board (SAB) Panel Formation Process: Immediate Steps to Improve Policies and Procedures—An SAB Commentary (EPA-SAB-EC-COM-002-003), http://www.epa.gov/sab/ecm02003.pdf.

2. Background: The EPA's Office of Air and Radiation (OAR) implements numerous requirements within section 112 of the Clean Air Act (CAA) to protect the public and the environment from hazardous air pollutants (HAPs). The CAA list 188 HAPs and there are thousands of other potentially toxic chemicals that find their way into the environment. There are concerns for the potential human health risks associated with exposures to the large number of chemicals and sources and the complexity of effects, exposure scenarios, and mitigation practices which need to be addressed.

The EPA's Office of Research and Development (ORD) has developed an air toxics research strategy (ATRS) and an air toxics multi-year plan (MYP) in consultation with the OAR to address the scope and magnitude of air toxics research. The ATRS provides a framework and strategic principles as the basis for ORD's research directions and priorities. The MYP implements the framework by developing specific yearly performance goals and performance measures of research that must be achieved in order to meet regulatory-based long term goals in air toxics research. The research strategy and multi-year plan will be posted on the ORD Web site at a later date. Information on the general research planning process may be obtained at the following Web site: http://www.epa.gov/ord/htm/researchstrategies.htm; http://www.epa.gov/osp/myp.htm.

3. Tentative Charge to the Review Panel. Specific and detailed charge questions are still under development, but the charge will encompass sufficiency of the regulatory and research context, comprehensiveness of key questions, strategic principles and research needs in addressing the important research to be undertaken, appropriateness of grouping air toxics, appropriateness of long-term goals for the MYP and measurability of annual performance goals and measures to accomplish priority needs of the air program. The charge will be available at a later date on the SAB Web site at http://www/epa/sab.gov.

4. SAB Request for Nominations: The EPA SAB is requesting nominations of individuals who are recognized, national-level experts in one or more of the following disciplines necessary to contribute to the charge questions to be addressed by the Review Panel for the review of the ATRS/MYP:

(a) Emissions estimation;

(b) Air quality modeling;

(c) Exposure modeling related to air pollution;

(d) Health effects of air pollutants;

(e) Air pollution epidemiology;

(f) Risk assessment of air pollutants;

(g) Uncertainty analysis and statistical probability;

(h) Pharmacokinetics/metabolism of air pollutants; and

(i) Risk management/risk reduction of air pollutants

5. Process and Deadline for Submitting Nominations: Any interested persons or organization may nominate qualified individuals to add expertise to the Panel in the above areas. Nominations should be submitted in electronic format through the Form for Nominating Individuals to Panels of the EPA Science Advisory Board provided on the SAB Web site. The form can be accessed through a link on the blue navigation bar on the SAB Web site, http://www.epa.gov/sab. To be considered, all nominations must include the information required on that form.

Anyone who is unable to submit nominations using this form, and any questions concerning any aspects of the nomination process may contact Dr. James Rowe as indicated above in this FR notice. Nominations should be submitted in time to arrive no later than May 21, 2003.

The EPA Science Advisory Board will acknowledge receipt of the nomination and inform nominators of the panel selected. From the nominees identified by respondents to this Federal Register notice (termed the “Widecast”), SAB Staff will develop a smaller subset (known as the “Short List”) for more detailed consideration. Criteria used by the SAB Staff in developing this Short List are given at the end of the following paragraph. The Short List will be posted on the SAB Web site at http://www.epa.gov/sab, and will include, for each candidate, the nominee's name and biosketch. Public comments will be accepted for 21 calendar days on the Short List. During this comment period, the public will be requested to provide information, analysis or other documentation that the SAB Staff should consider in evaluating candidates for the Panel.

For the EPA SAB, a balanced review panel (i.e., committee, subcommittee, or panel) is characterized by inclusion of candidates who possess the necessary domains of knowledge, the relevant scientific perspectives (which, among other factors, can be influenced by work history and affiliation), and the collective breadth of experience to adequately address the charge. Public responses to the Short List candidates will be considered in the selection of the panel, along with information provided by candidates and information gathered by EPA SAB Staff independently on the background of each candidate (e.g., financial disclosure information and computer searches to evaluate a nominee's prior involvement with the topic under review). Specific criteria to be used in evaluating an individual subcommittee member include: (a) Scientific and/or technical expertise, knowledge, and experience (primary factors); (b) absence of financial conflicts of interest; (c) scientific credibility and impartiality; (d) availability and willingness to serve; and (e) ability to work constructively and effectively in committees.

Short List candidates will also be required to fill-out the “Confidential Financial Disclosure Form for Special Government Employees Serving on Federal Advisory Committees at the U.S. Environmental Protection Agency” (EPA Form 3110-48). This confidential form, which is submitted by EPA SAB Members and Consultants, allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf. Subcommittee members will likely be asked to attend at least one public face-to-face meeting and several public conference call meetings over the anticipated course of the advisory activity.

Dated: April 25, 2003.
Angela Nugent,
Acting Office Director, EPA Science Advisory Board Staff Office.

[FR Doc. 03-10660 Filed 4-29-03; 8:45 am]

BILLING CODE 6560-50-P